DEPARTMENT OF ENERGY

Federal Energy Regulatory Commission

Combined Notice of Filings #1

November 17, 2005.

Take notice that the Commission received the following electric rate filings:

Docket Numbers: ER05-1221-002.

Applicants: Commonwealth Edison Company.

Description: Commonwealth Edison Co's Transmission Interconnection Agreement with ComEd, Ameren Services Co, MidWest ISO and PJM and request that FERC defer for consideration ComEd's 7/15/05 filing pending refiling of the service agreement.

Filed Date: 11/08/2005.

Accession Number: 20051114-0009.

Comment Date: 5 p.m. Eastern Time on Tuesday, November 29, 2005.

Docket Numbers: ER05-524-001.

Applicants: Xcel Energy Services.

Description: Xcel Energy Services, on behalf of, Northern States Power Co submits the Refund Report required by FERC's 11/4/05 Order which accepted an executed Generation Interconnection Agreement with Dan Mar Transmission, LLC.

Filed Date: 11/09/2005.

Accession Number: 20051114-0001.

Comment Date: 5 p.m. Eastern Time on Wednesday, November 30, 2005.

Docket Numbers: ER05-751-000.

Applicants: American Electric Power Service Company.

Description: American Electric Power on behalf of the American Electric Power System submits a Settlement Agreement.

Filed Date: 11/08/2005.

Accession Number: 20051109-0238.

Comment Date: 5 p.m. Eastern Time on Tuesday, November 29, 2005.

Docket Numbers: ER06-178-000.

Applicants: Exelon Corporation.

Description: Exelon Corp submits a notice of cancellation, as Attachment A, regarding the cancellation of Unicom Power Marketing, Inc's FERC Electric Rate Schedule No. 1.

Filed Date: 11/08/2005.

Accession Number: 20051109-0249.

Comment Date: 5 p.m. Eastern Time on Tuesday, November 29, 2005.

Docket Numbers: ER06-179-000.

Applicants: MEP Investments, LLC.

Description: Aquila Merchant Services, LLC on behalf of MEP Investment, submits a notice of cancellation of its FERC Electric Rate Schedule Volume No. 1.

Filed Date: 11/08/2005.

Accession Number: 20051110-0070.

Comment Date: 5 p.m. Eastern Time on Tuesday, November 29, 2005.

Docket Numbers: ER06-180-000.

Applicants: MEP Pleasant Hill Operating, LLC.

Description: Aquila Merchange Services, LLC on behalf of MEP Pleasant Hill Operating, LLC submits a Notice of Cancellation of its FERC Electric Tariff, Original Volume No. 1.

Filed Date: 11/08/2005.

Accession Number: 20051110-0069.

Comment Date: 5 p.m. Eastern Time on Tuesday, November 29, 2005.

Docket Numbers: ER06-181-000.

Applicants: Pleasant Hill Marketing, LLC.

Description: Aquila Merchange Services, LLC on behalf of Pleasant Hill Marketing, LLC submits a Notice of Cancellation of its FERC Electric Rate Schedule Volume No. 1.

Filed Date: 11/08/2005.

Accession Number: 20051110-0068.

Comment Date: 5 p.m. Eastern Time on Tuesday, November 29, 2005.

Docket Numbers: ER06-182-000.

Applicants: MidAmerican Energy Company.

Description: MidAmerican Energy Co submits an amended Electric Transmission Interconnection Agreement with Corn Belt Power Cooperative dated 10/31/05 pursuant to section 205 of the Federal Power Act.

Filed Date: 11/09/2005.

Accession Number: 20051110-0120.

Comment Date: 5 p.m. Eastern Time on Wednesday, November 30, 2005.

Docket Numbers: ER06-183-000.

Applicants: South Carolina Electric & Gas Company.

Description: South Carolina Electric & Gas Corp submits Second Revised Sheet No. 8 et al to FERC Electric Tariff, Second Revised Volume No. 5 in compliance with FERC's 10/7/05 Order.

Filed Date: 11/08/2005.

Accession Number: 20051110-0123.

Comment Date: 5 p.m. Eastern Time on Tuesday, November 29, 2005.

Docket Numbers: ER06-184-000.

Applicants: Midwest Independent System Operator.

Description: Midwest Independent Transmission System Operator, Inc & American Transmission Co, LLC et al submit a notice of cancellation for the Stratford Water & Electric Utility Service Agreement.

Filed Date: 11/09/2005.

Accession Number: 20051114-0005.

Comment Date: 5 p.m. Eastern Time on Wednesday, November 30, 2005.

Docket Numbers: ER06-189-000.

Applicants: Electric Energy, Inc.

Description: Electric Energy, Inc submits a Letter Supplement to its 9/2/87 Power Supply Agreement with Union Electric Co, Ameren Energy Resources Co, and Kentucky Utilities Co.

Filed Date: 11/09/2005.

Accession Number: 20051114-0082.

Comment Date: 5 p.m. Eastern Time on Wednesday, November 30, 2005.

Docket Numbers: ER06-190-000.

Applicants: Electric Energy, Inc.

Description: Electric Energy, Inc submits Modification No. 16 to its 9/2/87 Power Contract with the Unites States Department of Energy.

Filed Date: 11/09/2005.

Accession Number: 20051114-0083.

Comment Date: 5 p.m. Eastern Time on Wednesday, November 30, 2005.

Docket Numbers: ER99-230-010; ER03-762-011.

Applicants: Alliant Energy Corporate Services, Inc.

Description: Alliant Energy Corporate Services, Inc. on behalf of its Alliant Energy Operating Companies in compliance 9/19/05 Order submitted a refund report.

Filed Date: 11/08/2005.

Accession Number: 20051108-5007.

Comment Date: 5 p.m. Eastern Time on Tuesday, November 29, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Magalie R. Salas,
Secretary.

[FR Doc. E5-6473 Filed 11-23-05; 8:45 am]

BILLING CODE 6717-01-P